DEPARTMENT OF STATE

[Public Notice: 10488]

E.O. 13224 Designation of Abdul Rehman al-Dakhil, aka Dilshad Ahmad, aka Danish Dilshad, aka Amantullah Ali, aka Amanatullah Ali, aka Amanat Ali, aka Imanat Ullah Iqbal, aka `Abd al-Rahman al-Dakhil as a Specially Designated Global Terrorist

Acting under the authority of and in accordance with section 1(b) of Executive Order 13224 of September 23, 2001, as amended by Executive Order 13268 of July 2, 2002, and Executive Order 13284 of January 23, 2003, I hereby determine that the person known as Abdul Rehman al-Dakhil, also known as Dilshad Ahmad, also known as Danish Dilshad, also known as Amantullah Ali, also known as Amanatullah Ali, also known as Amanat Ali, also known as Imanat Ullah Iqbal, also known as `Abd al-Rahman al-Dakhil, committed, or poses a significant risk of committing, acts of terrorism that threaten the security of U.S. nationals or the national security, foreign policy, or economy of the United States.

Consistent with the determination in section 10 of Executive Order 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Dated: June 20, 2018.
Michael R. Pompeo,
Secretary of State.

[FR Doc. 2018-16781 Filed 8-3-18; 8:45 am]

BILLING CODE 4710-AD-P